DEPARTMENT OF TRANSPORTATION

National Highway Traffic Safety Administration

Information Collection Activities: Submission for the Office of Management and Budget (OMB) Review; Request for Comment

AGENCY: National Highway Traffic Safety Administration (NHTSA), DOT.

ACTION: Notice of the OMB review of information collection and solicitation of public comment.

SUMMARY: In compliance with the Paperwork Reduction Act of 1995 (44 U.S.C. chapter 35), this notice announces that the Information Collection Request (ICR) abstracted below will be submitted to the Office of Management and Budget (OMB) for review. The ICR describes the nature of the information collection and its expected burden. A Federal Register Notice with a 60-day comment period soliciting public comments on the following information collection was published on April 30, 2014 (Federal Register/Vol. 79, No. 83/pp. 24494-24495).

DATES: Submit comments to the Office of Management and Budget (OMB) on or before September 3, 2014.

FOR FURTHER INFORMATION CONTACT: Dr. Kathy Sifrit at the National Highway Traffic Safety Administration, Office of Behavioral Safety Research (NTI-132), W46-472, Department of Transportation, 1200 New Jersey Avenue SE., Washington, DC 20590. Dr. Sifrit's phone number is 202-366-0868 and her email address is kathy.sifrit@dot.gov.

SUPPLEMENTARY INFORMATION: OMB Control Number: 2127—New.

Title: Older Drivers and Navigation Devices.

Form No.: NHTSA Form 1260.

Type of Review: Regular.

Respondents: Drivers age 60 and older who have responded to a solicitation for participation in a study of older drivers and navigation devices and provided a phone number or email for contact.

Estimated Number of Respondents: A maximum of 320 phone conversations with respondents to a solicitation who have provided contact information, to yield 160 participants.

Estimated Time per Response: The average amount of time to respond to the questions is estimated at 10 minutes for each telephone conversation with a respondent.

Total Estimated Annual Burden Hours: 53.33 hours.

Frequency of Collection: The questions will be presented a single time.

Abstract: Some older drivers have difficulty navigating to unfamiliar places. As a result, they may restrict their driving thereby decreasing their quality of life or attempt to drive and potentially encounter difficulties including becoming lost and risking injury or death. A number of electronic devices have been advanced as means to prolong older adults' driving careers. These include electronic navigation systems (ENSs), which could aid older drivers through freeing cognitive resources otherwise needed for wayfinding. It is possible, however, that these systems may increase driver workload because they cause a distraction or select a route that is different than the driver expects. The purpose of the study is to document differences in older adults' driving performance while they drive to familiar destinations, unfamiliar destinations using paper directions, and unfamiliar destinations using an ENS. The project will include participants who are experienced in using navigation devices to explore the effects of familiarity using an ENS on driving performance, and will then assess the benefits of providing training in using an ENS to older adults. Each driver who meets study inclusion criteria based on responses to the proposed questions will be asked if he or she wishes to participate. Volunteer participants will complete an evaluation session conducted by a driver rehabilitation specialist (DRS) to determine their fitness to drive. In the first segment of the study, participants will complete multiple on-the-road drives using no directional aid, turn-by-turn directions on paper, or an ENS. After participants have finished the driving tasks, they will complete an ENS destination entry task. In the next segment of the study, participants will receive training in ENS use before completing the drives, with a DRS assessing driver performance on each drive. The proposed questions are needed to allow research staff to ensure that prospective participants meet study inclusion criteria and facilitate their study participation. NHTSA will use findings from this study to develop recommendations to health care providers and to the public regarding safety consequences of older drivers' use of ENSs, with the ultimate goal of reducing injuries and loss of life on the highway.

ADDRESSES: Send comments regarding the burden estimate, including suggestions for reducing the burden, to the Office of Information and Regulatory Affairs, Office of Management and Budget, 725 17th Street NW., Washington, DC 20503, Attention: Desk Officer for Department of Transportation, National Highway Traffic Safety Administration, or by email at oira_submission@omb.eop.gov, or fax: 202-395-5806.

Comments Are Invited on: Whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Authority: 44 U.S.C. 3506(c)(2)(A).

Issued in Washington, DC, on July 30, 2014.
Jeff Michael,
Associate Administrator, Research and Program Development.

[FR Doc. 2014-18317 Filed 8-1-14; 8:45 am]

BILLING CODE 4910-59-P